DEPARTMENT OF COMMERCE

Census Bureau

Proposed Information Collection; Comment Request; Annual Capital Expenditures Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 25, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Valerie Strang, Census Bureau, Room 6K171—South Building, Washington, DC 20233 (or via the Internet at valerie.cherry.strang@census.gov).

SUPPLEMENTARY INFORMATION:

I. Abstract

The U.S. Census Bureau plans to conduct the 2010 through 2012 Annual Capital Expenditures Survey (ACES). The annual survey collects data on fixed assets and depreciation, sales and receipts, capitalized computer software, and capital expenditures for new and used structures and equipment. The ACES is the sole source of detailed comprehensive statistics on actual business spending for non-farm, non-governmental companies, organizations, and associations operating in the United States. Both employer and nonemployer companies are included in the survey.

The Bureau of Economic Analysis, the primary Federal user of the ACES data, uses these data in refining and evaluating annual estimates of investment in structures and equipment in the national income and product accounts, compiling annual input-output tables, and computing gross domestic product by industry. The Federal Reserve Board uses these data to improve estimates of investment indicators for monetary policy. The Bureau of Labor Statistics uses these data to improve estimates of capital stocks for productivity analysis.

Industry analysts use these data for market analysis, economic forecasting, identifying business opportunities, product development, and business planning.

Changes from the previous ACES are the elimination of detailed capital expenditures by type of structure and type of equipment. These data, collected once every five years, were collected in the 2008 ACES and will not be collected again until the 2013 ACES, which is not included in the scope of the present requests for comments.

II. Method of Collection

The Census Bureau will primarily use mail out/mail back survey forms to collect data. Companies can respond via Centurion (The Bureau's online reporting system), by mail, or by using our toll-free number to reply via secure facsimile machine. Companies will be asked to respond to the survey within 30 days of the initial mailing. Letters and/or telephone calls encouraging participation will be directed to respondents that have not responded by the designated time.

Employer companies will be mailed one of three forms based on their diversity of operations and number of industries with payroll. Companies operating in only one industry will receive an ACE-1(S) form. Companies operating in more than one, but less than nine industries will receive an ACE-1(M) form. And, companies that operate in nine or more industries will receive an ACE-1(L). All nonemployer companies will receive an ACE-2 form.

III. Data

OMB Control Number: 0607-0782.

Form Number: ACE-1(S), ACE-1(M), ACE-1(L) and ACE-2.

Type of Review: Regular submission.

Affected Public: Businesses or other for-profit organizations, non-profit institutions, small businesses or organizations, and self-employed individuals.

Estimated Number of Respondents: Approximately 77,000 (47,000 employer companies, and 30,000 nonemployer companies).

Estimated Time per Response: The average for all respondents is 1.99 hours. For employer companies completing form ACE-1, the range is 2 to 16 hours, averaging 2.56 hours. For companies completing form ACE-2, the range is less than 1 hour to 2 hours, averaging 1 hour.

Estimated Total Annual Burden Hours: 153,300.

Estimated Total Annual Cost: $4.4 million.

Respondent's Obligation: Mandatory.

Legal Authority: Title 13 U.S.C. 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 20, 2010.
Glenna Mickelson,
Management Analyst, Office of the Chief Information Officer.

[FR Doc. 2010-21205 Filed 8-25-10; 8:45 am]

BILLING CODE 3510-07-P